DEPARTMENT OF AGRICULTURE

Grain Inspection, Packers and Stockyards Administration

Purchase of Mid-Iowa (IA) and Amendment to Its Area

AGENCY: Grain Inspection, Packers and Stockyards Administration, USDA.

ACTION: Notice.

SUMMARY: Grain Inspection, Packers and Stockyards Administration (GIPSA) designated Intercontinental Grain Inspection Inc. (Intercontinental), a subsidiary of Societe Generale de Surveillance (SGS) North America Inc., to provide domestic official inspection services under the United States Grain Standards Act, as amended (USGSA). Intercontinental's designation terminates September 30, 2007, therefore; GIPSA asked interested persons to submit an application for designation in the March 7, 2007, Federal Register (72 FR 10138). However, SGS North America Inc. purchased Mid-Iowa Grain Inspection, Inc. (Mid-Iowa), a currently designated agency providing official inspection services. Intercontinental will be merged into Mid-Iowa. Accordingly, GIPSA is not proceeding further with the request for applications for designation in the Corpus Christi, Texas, area, which is currently designated to Intercontinental. The designation of Mid-Iowa has been amended to include this geographic area.

DATES: Effective Date: July 1, 2007.

FOR FURTHER INFORMATION CONTACT: Karen Guagliardo at 202-720-7312, e-mail Karen.W.Guagliardo@usda.gov.

SUPPLEMENTARY INFORMATION: Section 7(f)(1) of the United States Grain Standards Act, as amended (USGSA), authorizes GIPSA's Administrator to designate a qualified applicant to provide official services in a specified area after determining that the applicant is better able than any other applicant to provide such official services (7 U.S.C. 79(f)(1)). GIPSA designated Intercontinental, headquarters in Corpus Christi, Texas, to provide official inspection services under the Act effective July 20, 2006, and terminating September 30, 2007.

Section 7(g)(1) of USGSA provides that designations of official agencies will terminate not later than three years and may be renewed according to the criteria and procedures prescribed in Section 7(f) of USGSA. Intercontinental's designation ends September 30, 2007, according to USGSA. In the March 7, 2007, Federal Register (72 FR 10138), GIPSA asked persons interested in providing official services in the area served by Intercontinental to submit an application for designation. However, SGS North America Inc., the company that currently owns Intercontinental, advised GIPSA that they purchased Mid-Iowa, a currently designated official agency, and that Intercontinental will be merged into Mid-Iowa. Accordingly, GIPSA is not proceeding further with the request for applications for designation published in the March 7, 2007, Federal Register. GIPSA is amending Mid-Iowa's designation due to the ownership change of Intercontinental.

Pursuant to Section 7(f)(2) of the Act, the following geographic area, in the State of Texas will now be assigned to Mid-Iowa.

• Bounded on the north by the northern Young, Jack, Montague, Cooke, Grayson, Fannin, Lamar, Red River, Morris, and Marion County line east to the Texas State line;

• Bounded on the east by the eastern Texas State line south to the southern Texas State line;

• Bounded on the south by the southern Texas State line west to the western Val Verde County line;

• Bounded on the west by the western Val Verde, Edwards, Kimble, Mason, San Saba, Mills, Comanche, Eastland, Stephens, and Young County lines north to the northern Young County line.

Mid-Iowa's assigned geographic area does not include the export port locations inside Mid-Iowa's area which are serviced by GIPSA.

Effective July 1, 2007, Mid-Iowa's present geographic area is amended to include the state of Texas. Mid-Iowa's current designation to provide official inspection services terminates June 30, 2008. Official services may be obtained by contacting Mid-Iowa at 319-363-0239.

Authority: 7 U.S.C. 71 et seq.

David R. Shipman,
Acting Administrator, Grain Inspection, Packers and Stockyards Administration.

[FR Doc. E7-12095 Filed 6-22-07; 8:45 am]

BILLING CODE 3410-KD-P